FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 962. Interested parties may submit comments on an agreement to the Secretary, Federal Maritime Commission, Washington, DC 20573, within 10 days of the date this notice appears in the Federal Register.

Agreement No.: 011742-001.

Title: P&O Nedlloyd-Farrell/Hapag-Lloyd/Zim Mediterranean Space Charter Agreement.

Parties: Farrell Lines, Inc. Hapag-Lloyd Container Linie GmbH. P&O Nedlloyd Limited. P&O Nedlloyd B.V. Zim Israel Navigation Co., Ltd.

Synopsis: The proposed agreement modification adds authority for the parties to discuss and agree on the phasing-in and phasing-out of vessels for maintenance and to discuss and agree on criteria to measure adherence to any agreed-upon schedule, as well as any remedial action in the event of non-adherence. The modification also clarifies the parties' authority to use common terminals and adds provisions dealing with force majeure situations, notices, and enforceability. The parties request expedited review.

Dated: January 9, 2000.
By Order of the Federal Maritime Commission.
Bryant L. VanBrakle,
Secretary.

[FR Doc. 02-845 Filed 1-11-02; 8:45 am]

BILLING CODE 6730-01-P